DEPARTMENT OF COMMERCE

National Oceanic and Atmospheric Administration

RIN 0648-XD594

Endangered and Threatened Species; Take of Abalone

AGENCY: National Marine Fisheries Service (NMFS), National Oceanic and Atmospheric Administration (NOAA), Commerce.

ACTION: Notice of receipt for a request to modify an existing scientific research and enhancement permit.

SUMMARY: Notice is hereby given that NMFS has received one permit application request to modify an existing research and enhancement permit. The proposed research is intended to increase knowledge of species listed under the Endangered Species Act (ESA) and to help guide management, conservation, and recovery efforts. The application may be viewed online at: https://apps.nmfs.noaa.gov/preview/preview_open_for_comment.cfm.

DATES: Comments or requests for a public hearing on the application must be received at the appropriate address or fax number (see ADDRESSES) no later than 5 p.m. Pacific standard time on December 5, 2014.

ADDRESSES: Written comments on the application should be submitted to the Protected Resources Division, NMFS, 777 Sonoma Avenue, Room 325, Santa Rosa, CA 95404. Comments may also be submitted via fax to 707-578-3435 or by email to nmfs.swr.apps@noaa.gov (include the permit number in the subject line of the email).

FOR FURTHER INFORMATION CONTACT: Jeffrey Jahn, Santa Rosa, CA (ph.: 707-575-6097), Fax: 707-578-3435, email: Jeffrey.Jahn@noaa.gov). Permit application instructions are available from the address above, or online at https://apps.nmfs.noaa.gov.

SUPPLEMENTARY INFORMATION:

Species Covered in This Notice

The following listed species are covered in this notice:

Endangered white abalone (Haliotis sorenseni).

Authority

Scientific research and enhancement permits are issued in accordance with section 10(a)(1)(A) of the ESA (16 U.S.C. 1531 et. seq) and regulations governing listed fish and wildlife permits (50 CFR parts 222-227). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Application Received

Permit 14344 Modification 1

The University of California at Davis, Bodega Marine Laboratory (BML) is seeking to modify permit (14344) that currently authorizes the captive maintenance and breeding of captive white abalone. The research is designed to (1) investigate and overcome barriers to propagating endangered white abalone in captivity, (2) identify reproduction limits in wild white abalone, (3) to investigate white abalone disease processes and learn how to mitigate them, and (4) seek the most successful means of recovering these animals in the wild. The requested modification would allow BML to collect wild white abalone from the ocean, especially individuals facing immediate harm, in order to increase the numbers and genetic integrity of captive broodstock. We expect and intend that the captive breeding program will benefit the abalone by increasing their numbers, helping to stabilize the population, and eventually helping to recover them in the wild. The researchers do not intend to kill any of the animals being captured but a small number of them may be killed as an inadvertent result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: October 29, 2014.
Angela Somma,
Chief, Endangered Species Division, Office of Protected Resources, National Marine Fisheries Service.

[FR Doc. 2014-26242 Filed 11-4-14; 8:45 am]

BILLING CODE 3510-22-P